SMALL BUSINESS ADMINISTRATION

Military Reservist Economic Injury Disaster Loans; Interest Rate for First Quarter FY 2016

In accordance with the Code of Federal Regulations 13—Business Credit and Assistance § 123.512, the following interest rate is effective for Military Reservist Economic Injury Disaster Loans approved on or after October 23, 2015.

Military Reservist Loan Program—4.000%

Dated: October 26, 2015.
James E. Rivera,
Associate Administrator For Disaster Assistance.

[FR Doc. 2015-27638 Filed 10-29-15; 8:45 am]

BILLING CODE 8025-01-P